DEPARTMENT OF ENERGY

Federal Energy Regulatory Commission

[Docket No. CP01-176-002]

Georgia Straits Crossing Pipeline LP; Notice of Amendment to Application

January 16, 2002.

Take notice that on January 11, 2002, Georgia Strait Crossing Pipeline LP (GSX) filed an amendment to its application pursuant to section 7(c) of the Natural Gas Act and part 157 of the Commission's Regulations for a certificate of public convenience and necessity authorizing GSX to construct a total of 47.5 miles of pipeline from Sumas, Washington, to a marine interconnect with a Canadian pipeline built by GSX-Canada Limited Partnership (GSX-Canada). The project includes the installation of compression in Whatcom County, Washington, and will accommodate approximately 95,700 dekatherms per day of natural gas, all as more fully set forth in the application that is on file with the Commission and open to public inspection. Copies of this filing are on file with the Commission and are available for public inspection. This filing may be viewed on the Web at http://www.ferc.gov using the “RIMS” link, select “Docket#” and follow the instructions (call 202-208-2222 for assistance).

GSX proposes by this amendment to change the in-service date for the project from October 2003 to October 2004 and to revise the cost of the project from its original estimate of $90.7 million to $94.8 million, which results in an increase in the proposed rates of approximately 4.6 percent. The amendment does not modify the scope of the project. GSX states that it has concluded that regulatory approvals probably cannot be obtained in time to enable completion of the pipeline construction to meet the former October 2003 in-service date. GSX also states that by amendment dated December 20, 2001, the GSX Project Agreement has been revised to reflect the new schedule.

Any questions regarding the application should be directed to Gary Kotter, Manager, Certificates, at (801) 584-7117, GSX Pipeline, L.L.C., P.O. Box 58900, Salt Lake City, Utah 84158.

There are two ways to become involved in the Commission's review of this project. First, any person wishing to obtain legal status by becoming a party to the proceedings for this project should, on or before February 6, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. The preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Linwood A. Watson, Jr.,
Acting Secretary.

[FR Doc. 02-1579 Filed 1-22-02; 8:45 am]

BILLING CODE 6717-01-P